DEPARTMENT OF ENERGY

U.S. Department of Energy Audit Guidance: For-Profit Recipients

AGENCY: U.S. Department of Energy.

ACTION: Request for information.

SUMMARY: The U.S. Department of Energy (DOE) seeks information and comments related to the requirements and guidance for independent audit organizations in conducting program compliance audits of for-profit recipients of federal financial assistance from DOE under its financial assistance regulations.

DATES: Written comments and information are requested on or before January 20, 2012.

ADDRESSES: Interested persons are encouraged to submit comments using the Federal eRulemaking Portal at http://www.regulations.gov. Follow the instructions for submitting comments. Alternatively, interested persons may submit comments by any of the following methods:

• Email to: FederalRegisterAuditComments@hq.doe.gov. Hand Delivery/Courier: Ms. Kimberly Krizanovic, U.S. Department of Energy, 4th Floor (Suite 4A-236), 1000 Independence Avenue SW., Washington, DC 20585. Phone: (202) 586-5304. Please submit one signed paper original.

FOR FURTHER INFORMATION CONTACT: Ms. Kimberly Krizanovic, U.S. Department of Energy, Office of the Chief Financial Officer, 4th Floor (Suite 4A-236), 1000 Independence Avenue SW., Washington, DC 20585. Phone: (202) 586-5304. Email: kimberly.krizanovic@hq.doe.gov.

SUPPLEMENTARY INFORMATION: U.S. Department of Energy Audit Guidance: For-Profit Recipients provides requirements and guidance for independent audit organizations in conducting program compliance audits of for-profit recipients of federal financial assistance from the Department of Energy (DOE) under Regulation 10 CFR 600.316. The requirements for financial statement audits of for-profit recipients are not provided for under Regulation 10 CFR 600.316, which applies only to program compliance audits. As such, this Audit Program and all compliance supplements (Parts II and III of this guidance) do not apply to financial statement audits. Audits of financial statements are allowable as indirect costs if the recipient normally has financial statement audits. However, DOE is not requiring an audit of financial statements solely to address Regulation 10 CFR 600.316, nor are financial statement audits allowable as direct costs to satisfy the requirements of Regulation 10 CFR 600.316.

Compliance audits as required under Regulation 10 CFR 600.316 and this Audit Program must be conducted in accordance with the requirements and guidance set forth in Statement on Auditing Standards No. 117, Compliance Audits (SAS 117) and generally accepted government auditing standards (GAGAS). The audit procedures provided in this Audit Program are the minimum necessary for uniform and consistent audit coverage.

DOE seeks comment and information on this audit guidance to potentially improve the usefulness and clarity of the guidance. You may access the guidance at: http://energy.gov/management/downloads/draft-profit-audit-guidance-fy-2011.

Issued in Washington, DC, on December 15, 2011.
Patrick M. Ferraro,
Acting Director, Office of Procurement and Assistance Management, Office of Management, Department of Energy.

[FR Doc. 2011-32622 Filed 12-20-11; 8:45 am]

BILLING CODE 6450-01-P